DEPARTMENT OF COMMERCE

National Oceanic and Atmospheric Administration

RIN 0648-XA953

Endangered and Threatened Species; Take of Anadromous Fish

AGENCY: National Marine Fisheries Service (NMFS), National Oceanic and Atmospheric Administration (NOAA), Commerce.

ACTION: Receipt of two research permit application requests.

SUMMARY: Notice is hereby given that NMFS has received two scientific research permit application requests relating to salmonids listed under the Endangered Species Act (ESA). The proposed research activities are intended to increase knowledge of the species and to help guide management and conservation efforts.

DATES: Written comments on the permit applications must be received at the appropriate address or fax number (see ADDRESSES) no later than 5 p.m. Pacific standard time on February 24, 2012.

ADDRESSES: Written comments on either application should be submitted to the Protected Resources Division, NMFS, 777 Sonoma Avenue, Room 325, Santa Rosa, CA 95404. Comments may also be submitted via fax to (707) 578-3435 or by email to FRNpermits.SR@noaa.gov. The applications and related documents may be viewed online at: https://apps.nmfs.noaa.gov/preview/preview_open_for_comment.cfm. These documents are also available upon written request or by appointment by contacting NMFS by phone (707) 575-6097 or fax (707) 578-3435.

FOR FURTHER INFORMATION CONTACT: Jeffrey Jahn, Santa Rosa, CA (ph.: (707) 575-6097, email.: Jeffrey.Jahn@noaa.gov).

SUPPLEMENTARY INFORMATION:

Species Covered in This Notice

This notice is relevant to federally threatened Central California Coast (CCC) steelhead (Oncorhynchus mykiss), threatened Northern California (NC) steelhead (O. mykiss), endangered Central California Coast coho salmon (O. kisutch), threatened Southern Oregon/Northern California Coast coho salmon (O. Kisutch) and threatened California Coastal Chinook salmon (O. tshawytscha).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the applications listed in this notice should set out the specific reasons why a hearing on the application(s) would be appropriate (see ADDRESSES). Such hearings are held at the discretion of the Assistant Administrator for Fisheries, NMFS.

Applications Received

Permit 16491

Michael Fawcett (Fawcett Biological Consulting) is requesting a 5-year scientific research and enhancement permit to take juvenile Central California Coast (CCC) steelhead, juvenile Northern California (NC) steelhead, juvenile CCC coho salmon, and juvenile California Coastal (CC) Chinook salmon (ESA-listed salmonids) and adult carcasses of CCC steelhead, CCC coho salmon, and CC Chinook salmon associated with research activities in Salmon Creek, the lower Russian River, and small coastal streams between the Gualala River and Tomales Bay watersheds in Marin and Sonoma counties, California. Permit 16491 is a renewal with modifications of a previously issued permit (1045 Modification 1) that expires on February 29, 2012.

The research activities associated with this permit are an integral part of an ongoing effort to monitor and increase the success of restoration and enhancement efforts implemented for ESA-listed salmonids. In the studies described below, researchers do not expect to kill any listed fish but a small number may die as an unintended result of the research activities.

The objectives are to: (1) Monitor the success of CCC coho salmon enhancement efforts through annual redd/spawner surveys, (2) survey potentially suitable habitat for juvenile CCC coho salmon restoration projects, and (3) document CCC and NC steelhead abundance and distribution as a component of CCC coho salmon habitat restoration projects. In these projects, juvenile ESA-listed salmonids will be either observed through snorkel surveys or captured by seine, anesthetized, handled (identified, measured, weighed), tissue sampled (fin-clips), and released. Adult carcasses of ESA-Listed salmonids will be screened with a Passive Integrated Transponder (PIT) tag wand, tissue sampled (fin-clips or scales), and tagged (Floy tag). All data and information will be shared with county, state, and federal entities for use in conservation and restoration planning efforts related to ESA-listed salmonids.

Study 1 will assess salmonid distribution, abundance, and reproductive success at study sites in the Salmon Creek watershed. Researchers will survey stream reaches throughout each calendar year, and observe the number, species, sex, size, condition, location, and behavior of spawning adult ESA-listed salmonids. Redds will be located, marked, and mapped. Carcasses of ESA-listed salmonids that are encountered during spawner surveys will be identified, measured, evaluated for spawning condition, marked with a Floy tag to avoid double counting, and returned to the location where they were found. Snorkel surveys will be used to document juvenile ESA-listed salmonid abundance in the vicinity of newly installed instream habitat structures in the Salmon Creek estuary and mainstem. Juveniles will also be captured by seine in the estuary, mainstem, and tributaries of Salmon Creek to establish reliability of the snorkel surveys. Juvenile ESA-listed salmonids will be tissue sampled (fin-clip) for genetic analysis by Carlos Garza at the NMFS Southwest Fisheries Science Center.

Study 2 will analyze the genetics, inter-annual variability, and relative abundance of juvenile NC and CCC steelhead and CCC coho salmon in small coastal streams between the Gualala River and Tomales Bay watersheds. This survey will include snorkel surveys and juvenile salmonids will be captured by seine annually from August through December. Captured fish will be anesthetized and a subset will be tissue sampled (fin-clip). All captured fish will be released back into the habitat from which they were taken.

Permit 16274

Mendocino Redwood Company (MRC) is requesting a 5-year scientific research permit to take juvenile and spawned adult carcasses of Southern Oregon/Northern California Coast (SONCC) coho salmon, CCC coho salmon, CC Chinook, NC steelhead, and CCC steelhead associated with four research projects in streams within MRC ownership in Mendocino and Sonoma counties, California. Permit 16274 is a renewal with modifications of a previously issued permit (1181 Modification 1) that expired on November 30, 2011.

The purpose of the research is to continue an ongoing effort to assess adult and juvenile population trends and distribution of ESA-listed salmonids, and to document salmonid habitat conditions in streams within MRC ownership. This information will be used to help assess land management practices and will be shared with interested state and federal agencies to help assess the current populations of ESA-listed salmonids. In the studies described below, researchers do not expect to kill any listed fish but a small number may die as an unintended result of the research activities.

In study 1, snorkel surveys and single pass electrofishing will be conducted between June and November each year in watersheds in Mendocino and Sonoma counties, California, to determine ESA-listed salmonid distribution. Captured fish will be anesthetized, identified, measured and/or weighed, and released back into the stream from which they were taken.

In Study 2, salmon spawner abundance surveys will be conducted annually from November through April in several watersheds in Mendocino County. Researchers will document the number, species, location, and behavior of spawning adults and redds will be located, flagged, and measured. Carcasses of ESA-listed salmonids will be measured, sex recorded, marked to avoid double counting, and returned to the location where they were found. There will be no take of live adult ESA-listed salmonids associated with this study.

Study 3 is a salmonid smolt outmigration abundance monitoring study in the Little North Fork Navarro River and South Fork Albion River in Mendocino County. This study will utilize one rotary screw trap and/or a weir/pipe trap from February through June in each watershed. Captured fish will be anesthetized, measured, and released downstream of the trap. Coho salmon and steelhead will be marked using caudal fin-clips and released upstream of the trap for a mark-recapture study to determine trap efficiency.

Study 4 is a salmonid monitoring study to determine the utilization of pond habitat in a tributary to the Navarro River, the Albion River and possibly a pond habitat in Cottaneva Creek, in Mendocino County. The study will either use a minnow trap and bait, fyke trap, or weir/pipe trap to determine if ESA-listed salmonids utilize Ray Gulch as overwintering or pre-outmigration refugia. If salmon are found, the study will use mark/recapture methods to estimate population numbers.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: January 20, 2012.
Angela Somma,
Chief, Endangered Species Division, Office of Protected Resources, National Marine Fisheries Service.

[FR Doc. 2012-1564 Filed 1-24-12; 8:45 am]

BILLING CODE 3510-22-P